DEPARTMENT OF EDUCATION

Notice of Waivers for the Rehabilitation Training—Rehabilitation Continuing Education Program (RCEP)

AGENCY: Office of Special Education and Rehabilitative Services, Department of Education.

ACTION: Notice of waivers for the Rehabilitation Training—Rehabilitation Continuing Education Program (RCEP).

SUMMARY: The Secretary waives the requirements in 34 CFR 75.250 and 75.261(a) and (c)(2) of the Education Department General Administrative Regulations (EDGAR), respectively, that generally prohibit project periods exceeding five years and project period extensions involving the obligation of additional Federal funds. These waivers will enable seven current RCEP grantees to provide continuing education to employees of vocational rehabilitation (VR) agencies and their partners and to continue to receive some additional Federal funding from July 1 through September 30, 2008.

DATES: Effective Date: These waivers are effective June 25, 2008.

FOR FURTHER INFORMATION CONTACT: Christine Marschall, U.S. Department of Education, 400 Maryland Ave, SW., room 5053, Potomac Center Plaza, Washington, DC 20202-2800. Telephone: (202) 245-7429 or via Internet: Christine.Marschall@ed.gov.

If you use a telecommunications device for the deaf (TDD), call the Federal Relay Service (FRS) at 1-800-877-8339.

Individuals with disabilities can obtain this document in an alternative format (e.g., Braille, large print, audiotape, or computer diskette) on request to the contact person listed under FOR FURTHER INFORMATION CONTACT.

SUPPLEMENTARY INFORMATION: On May 12, 2008, we published a notice in the Federal Register (73 FR 26974), proposing waivers of 34 CFR 75.250 and 75.261(a) and (c)(2) of EDGAR in order to give early notice of the possibility that the Department will continue to fund seven current RCEP grantees from July 1 through September 30, 2008.

The RCEPs provide continuing education to employees of State VR agencies and their partners, as well as other rehabilitation services agencies. The Rehabilitation Services Administration (RSA) in the Department's Office of Special Education and Rehabilitative Services is in the process of redesigning the RCEPs to create and support 10 regional Technical Assistance and Continuing Education (TACE) centers. (For more information on the TACE centers, see the notice of final priority that the Department published in the Federal Register on June 5, 2008 (73 FR 32010). The Department intends to make awards for the TACE centers so that grant activities can begin by October 1, 2008.

The waivers announced in this notice ensure that services provided by the current RCEP grantees are provided to the extent possible through September 30, 2008, the anticipated date that the TACE centers will commence their project activities. The project periods for the following current RCEP grantees end on June 30, 2008: (1) State University of New York at Buffalo, (2) George Washington University, (3) the University of Arkansas, (4) the University of Missouri-Columbia, (5) the University of Northern Colorado, (6) San Diego State University, and (7) Western Washington University. Because it would be contrary to the public interest to have a lapse in continuing education activities before grants for RSA's new TACE projects are awarded and implemented, the Secretary will provide some additional funding to these seven RCEP grantees that are in the fifth year of their project periods to allow them to continue operating through September 30, 2008.

Note: RSA does not plan to continue funding any other RCEPs with the exception of three RCEP grantees currently in the fourth year of their grant (Assumption College, the University of Tennessee, and Georgia State University) with budget periods ending on June 30, 2008. For these three RCEP grantees, the Secretary plans to extend their current budget period and provide some additional funding to support continuing education activities through September 30, 2008.

Analysis of Comments and Changes

In response to our invitation to comment on the proposed waivers, we received 13 comments, all expressing support for the waivers. As a result, there are no changes in the final waivers.

Waiver of Delayed Effective Date

The Administrative Procedure Act requires that a substantive rule be published at least 30 days before its effective date, except as otherwise provided for good cause (5 U.S.C. 553(d)(3)). We provided the public with an opportunity to comment on the Secretary's intent to waive the requirements in 34 CFR 75.250 and 75.261(a) and (c)(2) of EDGAR for current RCEP grantees that have grants ending on June 30, 2008, to enable them to provide continuing education to employees of VR agencies and their partners and to continue to receive some additional Federal funding from July 1 through September 30, 2008. All of the comments that we received supported the proposed waivers. Given that the current RCEP grantees' project periods will expire on June 30, 2008, in order to ensure that there is no lapse in the services provided by these grantees, the Secretary has determined that a delayed effective date is impracticable and would be contrary to the public interest.

Final Waivers—Rehabilitation Continuing Education Program

The Secretary waives the requirements in 34 CFR 75.250 and 75.261(a) and (c)(2), which prohibit project periods exceeding five years and extensions of project periods that involve the obligation of additional Federal funds, for current RCEP grantees in the fifth year of their grants.

With these waivers, the seven RCEP grantees that have grants ending on June 30, 2008, are eligible for additional funding, as available, to allow them to continue their activities through September 30, 2008.

Regulatory Flexibility Act Certification

The Secretary certifies that the announced waivers will not have a significant economic impact on a substantial number of small entities.

Paperwork Reduction Act of 1995

This notice of waivers does not contain any information collection requirements.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.264A, Rehabilitation Continuing Education Program)

Program Authority: 29 U.S.C. 772.

Dated: June 20, 2008.
Tracy R. Justesen,
Assistant Secretary for Special Education and Rehabilitative Services.

[FR Doc. E8-14413 Filed 6-24-08; 8:45 am]

BILLING CODE 4000-01-P